DEPARTMENT OF ENERGY

Federal Energy Regulatory Commission

Combined Notice of Filings #1

Take notice that the Commission received the following electric corporate filings:

Docket Numbers: EC11-104-000.

Applicants: FirstEnergy Solutions Corp., FirstEnergy Generation Corp., Richland-Stryker Generation LLC.

Description: Application of FirstEnergy Generation Corp., et al. for Authorization Pursuant to Section 203 of the Federal Power Act and Requests for Waivers of Filing Requirements, Confidential Treatment, and Expedited Review.

Filed Date: 08/15/2011.

Accession Number: 20110815-5147.

Comment Date: 5 p.m. Eastern Time on Tuesday, September 6, 2011.

Take notice that the Commission received the following exempt wholesale generator filings:

Docket Numbers: EG11-115-000.

Applicants: Caney River Wind Project, LLC.

Description: Self-Certification of EG of Caney River Wind Project, LLC.

Filed Date: 08/09/2011.

Accession Number: 20110809-5060.

Comment Date: 5 p.m. Eastern Time on Tuesday, August 30, 2011.

Docket Numbers: EG11-116-000.

Applicants: Mesquite Solar 1, LLC.

Description: Mesquite Solar 1, LLC Notice of Self-Certification of Exempt Wholesale Generator Status.

Filed Date: 08/15/2011.

Accession Number: 20110815-5114.

Comment Date: 5 p.m. Eastern Time on Tuesday, September 6, 2011.

Take notice that the Commission received the following electric rate filings:

Docket Numbers: ER10-1801-001.

Applicants: The Connecticut Light and Power Company.

Description: The Connecticut Light and Power Company submits tariff filing per 35: Market Based Rate Triennial Compliance Order issued 7-13-11 to be effective 7/13/2011.

Filed Date: 08/09/2011.

Accession Number: 20110809-5018.

Comment Date: 5 p.m. Eastern Time on Tuesday, August 30, 2011.

Docket Numbers: ER10-1811-001.

Applicants: Select Energy, Inc.

Description: Select Energy, Inc submits tariff filing per 35: Market Based Rate Triennial Compliance Order issued 7-13-11 to be effective 7/13/2011.

Filed Date: 08/09/2011.

Accession Number: 20110809-5019.

Comment Date: 5 p.m. Eastern Time on Tuesday, August 30, 2011.

Docket Numbers: ER10-2627-004.

Applicants: FirstLight Hydro Generating Company.

Description: FirstLight Hydro Generating Company submits tariff filing per 35: Revised FL Hydro Tariff to be effective 9/16/2011.

Filed Date: 08/15/2011.

Accession Number: 20110815-5155.

Comment Date: 5 p.m. Eastern Time on Tuesday, September 6, 2011.

Docket Numbers: ER10-2629-004.

Applicants: FirstLight Power Resources Management, LLC.

Description: FirstLight Power Resources Management, LLC submits tariff filing per 35: FLPRM Revised Tariff to be effective 9/16/2011.

Filed Date: 08/15/2011.

Accession Number: 20110815-5149.

Comment Date: 5 p.m. Eastern Time on Tuesday, September 6, 2011.

Docket Numbers: ER10-2636-004.

Applicants: Mt. Tom Generating Company, LLC.

Description: Mt. Tom Generating Company, LLC submits tariff filing per 35: Mt Tom Revised Tariff to be effective 9/16/2011.

Filed Date: 08/15/2011.

Accession Number: 20110815-5158.

Comment Date: 5 p.m. Eastern Time on Tuesday, September 6, 2011.

Docket Numbers: ER11-3572-001.

Applicants: Midwest Independent Transmission System Operator, Inc.

Description: Midwest Independent Transmission System Operator, Inc. submits tariff filing per 35: 08-11-11 DAMAP Compliance to be effective 5/14/2011.

Filed Date: 08/11/2011.

Accession Number: 20110811-5064.

Comment Date: 5 p.m. Eastern Time on Tuesday, August 23, 2011.

Docket Numbers: ER11-3667-002.

Applicants: Arizona Public Service Company.

Description: Arizona Public Service Company submits tariff filing per 35.17(b): Amendment filing to include an integrated Service Agreement No. 193 to be effective 4/29/2011.

Filed Date: 08/12/2011.

Accession Number: 20110812-5191.

Comment Date: 5 p.m. Eastern Time on Friday, September 2, 2011.

Docket Numbers: ER11-3715-001.

Applicants: Morris Cogeneration, LLC.

Description: Morris Cogeneration, LLC submits tariff filing per 35: Supplement to Notice of Change in Status Morris Cogeneration, LLC to be effective 4/29/2011.

Filed Date: 08/10/2011.

Accession Number: 20110810-5172.

Comment Date: 5 p.m. Eastern Time on Wednesday, August 31, 2011.

Docket Numbers: ER11-3716-001.

Applicants: Manchief Power Company LLC.

Description: Manchief Power Company LLC submits tariff filing per 35: Supplement to Notice of Change in Status of Manchief Power Co. to be effective 4/29/2011.

Filed Date: 08/10/2011.

Accession Number: 20110810-5163.

Comment Date: 5 p.m. Eastern Time on Wednesday, August 31, 2011.

Docket Numbers: ER11-3717-001.

Applicants: Frederickson Power L.P.

Description: Frederickson Power L.P. submits tariff filing per 35: Supplement to Notice of Change in Status of Frederickson Power L.P. to be effective 4/29/2011.

Filed Date: 08/10/2011.

Accession Number: 20110810-5166.

Comment Date: 5 p.m. Eastern Time on Wednesday, August 31, 2011.

Docket Numbers: ER11-3720-001.

Applicants: CPI USA North Carolina LLC.

Description: CPI USA North Carolina LLC submits tariff filing per 35: Supplement to Notice of Change in Status of CPI USA North Carolina LLC to be effective 4/29/2011.

Filed Date: 08/10/2011.

Accession Number: 20110810-5170.

Comment Date: 5 p.m. Eastern Time on Wednesday, August 31, 2011.

Docket Numbers: ER11-3734-001.

Applicants: CPI Energy Services (US) LLC.

Description: CPI Energy Services (US) LLC submits tariff filing per 35: Supplement to Notice of Change in Status of CPI Energy Services (US) LLC to be effective 4/29/2011.

Filed Date: 08/10/2011.

Accession Number: 20110810-5171.

Comment Date: 5 p.m. Eastern Time on Wednesday, August 31, 2011.

Docket Numbers: ER11-4037-001.

Applicants: Interstate Gas Supply, Inc.

Description: Interstate Gas Supply, Inc. submits tariff filing per 35.17(b): Amended Market Based Rate to be effective 8/12/2011.

Filed Date: 08/11/2011.

Accession Number: 20110811-5089.

Comment Date: 5 p.m. Eastern Time on Thursday, September 1, 2011.

Docket Numbers: ER11-4151-001.

Applicants: California Independent System Operator Corporation.

Description: California Independent System Operator Corporation submits tariff filing per 35.17(b): 2011-08-09 CAISO Errata to NRS-RA Amendment to be effective 1/1/2012.

Filed Date: 08/09/2011.

Accession Number: 20110809-5117.

Comment Date: 5 p.m. Eastern Time on Tuesday, August 30, 2011.

Docket Numbers: ER11-4173-001.

Applicants: Michigan Electric Transmission Company, Midwest Independent Transmission System Operator, Inc.

Description: Michigan Electric Transmission Company, LLC submits tariff filing per 35.17(b): G479b (Errata) (2) to be effective 8/1/2011.

Filed Date: 08/15/2011.

Accession Number: 20110815-5145.

Comment Date: 5 p.m. Eastern Time on Tuesday, September 6, 2011.

Docket Numbers: ER11-4311-000

Applicants: PJM Interconnection, LLC.

Description: PJM Interconnection, LLC submits tariff filing per 35.13(a)(2)(iii: Service Agreement No. 2985 among PJM, Exelon Generation Co. and ComEd to be effective 7/15/2011.

Filed Date: 08/15/2011.

Accession Number: 20110815-5127.

Comment Date: 5 p.m. Eastern Time on Tuesday, September 6, 2011.

Docket Numbers: ER11-4312-000.

Applicants: Gila River Energy Supply LLC.

Description: Gila River Energy Supply LLC submits tariff filing per 35.15: Gila River Energy Supply-Cancellation of MBR Tariff to be effective 8/16/2011.

Filed Date: 08/15/2011.

Accession Number: 20110815-5130.

Comment Date: 5 p.m. Eastern Time on Tuesday, September 6, 2011.

Docket Numbers: ER11-4313-000.

Applicants: New York Independent System Operator, Inc.

Description: New York Independent System Operator, Inc. submits tariff filing per 35.13(a)(2)(iii: NYISO 205 filing re: Operational Responsibilities to be effective 10/14/2011.

Filed Date: 08/15/2011.

Accession Number: 20110815-5157.

Comment Date: 5 p.m. Eastern Time on Tuesday, September 6, 2011.

Docket Numbers: ER11-4314-000.

Applicants: Southern Electric Generating Company.

Description: Southern Electric Generating Company submits tariff filing per 35.1: SEGCO Power Contract Filing to be effective 1/1/2012.

Filed Date: 08/15/2011.

Accession Number: 20110815-5165.

Comment Date: 5 p.m. Eastern Time on Tuesday, September 6, 2011.

Docket Numbers: ER11-4315-000.

Applicants: Gila River Power, L.P.

Description: Gila River Power, L.P. submits tariff filing per 35: Gila River Power-Notice of Succession to MBR Rate Tariff to be effective 8/16/2011.

Filed Date: 08/15/2011.

Accession Number: 20110815-5175.

Comment Date: 5 p.m. Eastern Time on Tuesday, September 6, 2011.

Docket Numbers: ER11-4316-000.

Applicants: Koch Supply & Trading, LP.

Description: Notice of Tariff Cancellation Filed on Behalf of Koch Supply & Trading, LP.

Filed Date: 08/15/2011.

Accession Number: 20110815-5207.

Comment Date: 5 p.m. Eastern Time on Tuesday, September 6, 2011.

Take notice that the Commission received the following open access transmission tariff filings:

Docket Numbers: OA11-10-000.

Applicants: Mesquite Solar 1, LLC.

Description: Application of Mesquite Solar 1, LLC for waivers of FERC's Open Access Transmission Tariff, OASIS, and Standards of Conduct requirements.

Filed Date: 08/15/2011.

Accession Number: 20110815-5133.

Comment Date: 5 p.m. Eastern Time on Tuesday, September 6, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 16, 2011.
Nathaniel J. Davis, Sr.,
Deputy Secretary.

[FR Doc. 2011-21689 Filed 8-24-11; 8:45 am]

BILLING CODE 6717-01-P